DEPARTMENT OF THE TREASURY

Internal Revenue Service

Members of Senior Executive Service Performance Review Boards

AGENCY: Internal Revenue Service (IRS), Department of the Treasury (Treasury).

ACTION: Notice.

SUMMARY: The purpose of this notice is to publish the names of those IRS employees who will serve as members on IRS's Fiscal Year 2013 Senior Executive Service (SES) Performance Review Boards.

DATES: This notice is effective September 1, 2013.

FOR FURTHER INFORMATION CONTACT: Debbie Salisbury, IRS, 1111 Constitution Avenue NW., Room 2410, Washington, DC 20224, (202) 622-4116.

SUPPLEMENTARY INFORMATION: Pursuant to 5 U.S.C. 4314(c)(4), this notice announces the appointment of members to the IRS's SES Performance Review Boards. The names and titles of the executives serving on the boards are as follows:

Elizabeth Tucker, Deputy Commissioner for Operations Support

David P. Alito, Deputy Commissioner for Operations, Wage and Investment (W&I)

Peggy A. Bogadi, Commissioner, Wage and Investment (W&I)

Lauren Buschor, Associate Chief Information Officer (CIO), Enterprise Operations, Information Technology (IT)

Carol A. Campbell, Director, Return Preparer Office, Deputy Commissioner for Services and Enforcement (DCSE)

Robin L. Canady, Director, Strategy and Finance (W&I)

Daniel B. Chaddock, Associate CIO, Enterprise Services (IT)

Rebecca A. Chiaramida, Director, Privacy, Governmental Liaison and Disclosure (PGLD)

James P. Clifford, Director, Compliance (W&I)

Debra A. Cunn, Executive Director, Business Modernization, Taxpayer Advocate Service (TAS)

Monica H. Davy, Executive Director, Office of Equity, Diversity and Inclusion, Office of the Commissioner

Paul D. DeNard, Deputy Commissioner, Domestic, Large Business and International (LB&I)

Faris R. Fink, Commissioner, Small Business/Self-Employed (SB/SE)

David M. Fisher, Chief Risk Officer and Senior Advisor to the Commissioner, Office of the Commissioner

Carl T. Froehlich, Associate CIO, Strategy and Planning (IT)

Julieta Garcia, Director, Customer Assistance, Relationships and Education (W&I)

Silvana G. Garza, Deputy CIO, Operations (IT)

Rena C. Girinakis, Executive Director, Systemic Advocacy (TAS)

William T. Grams, Chief of Staff, Office of the Commissioner

David A. Grant, Chief, Agency-Wide Shared Services (AWSS)

Darren J. Guillot, Director, Enterprise Collection Strategy (SB/SE)

Patricia J. Haynes, Deputy Chief Criminal Investigation, Criminal Investigation (CI)

Shenita L. Hicks, Director, Examination (SB/SE)

Debra S. Holland, Deputy Commissioner for Support (W&I)

Robert L. Hunt, Director, Collection (SB/SE)

Robin DelRey Jenkins, Director, Office of Business Modernization (SB/SE)

Michael D. Julianelle, Deputy Commissioner, Tax Exempt and Government Entities (TEGE)

Gregory E. Kane, Deputy Chief Financial Officer, Chief Financial Office (CFO)

David A. Krieg, IRS Human Capital Officer, Human Capital Office (HCO)

Pamela J. LaRue, Chief Financial Officer (CFO)

Heather C. Maloy, Commissioner, Large Business and International (LB&I)

Stephen L. Manning, Deputy CIO, Strategy/Modernization (IT)

Rosemary D. Marcuss, Director, Research, Analysis and Statistics (RAS)

C. Andre Martin, Executive Director, Investigative and Enforcement Services (CI)

Rajive K. Mathur, Director, Online Services, Online Services (OLS)

Terence V. Milholland, Chief Technology Officer/Chief Information Officer (IT)

Debra L. Nelson, Director, Management Services (IT)

Nina E. Olson, National Taxpayer Advocate (TAS)

Jodell L. Patterson, Director, Return Integrity and Correspondence Services (W&I)

Ruth Perez, Deputy Commissioner, Small Business/Self-Employed (SB/SE)

Rene S. Schwartzman, Business Modernization Executive (W&I)

Verline A. Shepherd, Associate CIO, User and Network Services (IT)

Nancy A. Sieger, Associate CIO, Applications Development (IT)

Dean R. Silverman, Senior Advisor to the Commissioner (Compliance Analytics Initiatives), Office of the Commissioner

Marla L. Somerville, Associate CIO, Affordable Care Act—Program Management Office (IT)

David W. Stender, Associate CIO, Cybersecurity (IT)

Peter J. Stipek, Director, Customer Accounts Services (W&I)

Kathryn D. Vaughan, Director, Campus Compliance Services (SB/SE)

Peter C. Wade, Associate CIO, Enterprise IT Program Management Office (IT)

Richard Weber, Chief, Criminal Investigation (CI)

Matthew A. Weir, Deputy National Taxpayer Advocate (TAS)

Kirsten B. Wielobob, Deputy Chief Appeals, Appeals (AP)

This document does not meet the Treasury's criteria for significant regulations.

Dated: August 13, 2013.
Beth Tucker,
Deputy Commissioner for Operations Support, Internal Revenue Service.

[FR Doc. 2013-20211 Filed 8-19-13; 8:45 am]

BILLING CODE 4830-01-P